LEGAL SERVICES CORPORATION

Sunshine Act Meeting of the Board of Directors Finance Committee

TIME AND DATE: The Finance Committee of the Legal Services Corporation Board of Directors will meet on April 5, 2002 The meeting will begin at 3:30 p.m. and continue until the Committee concludes its agenda.

Location: The Melrose Hotel, 2430 Pennsylvania Avenue, NW., Washington, DC.

Status of Meeting: Open.

Matters to be Considered: 1. Approval of agenda.

2. Approval of the minutes of the Committee's meeting of January 19, 2002.

3. Report on LSC's Consolidated Operating Budget, Expenses and Other Funds Available through February 28, 2002.

4. Consider and act on amendments to the 403(b) Thrift Plan for Employees of LSC.

5. Briefing on efforts to locate and secure new office space to house LSC.

6. Consider and act on whether to authorize the President of LSC to negotiate and enter into a lease for offices to permanently house LSC.

7. Consider and act on other business.

8. Public comment.

FOR FURTHER INFORMATION CONTACT: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: March 28, 2002.
Victor M. Fortuno,
Vice President for Legal Affairs, General Counsel & Corporate Secretary.

[FR Doc. 02-8032 Filed 3-29-02; 11:28 am]

BILLING CODE 7050-01-P